DEPARTMENT OF ENERGY

Secretary of Energy Advisory Board; Correction Department of Energy.

ACTION: Notice of open meeting, correction.

SUMMARY: On November 20, 2024, the Department of Energy published a notice of open meeting announcing a meeting on December 10, 2024, of the Secretary of Energy Advisory Board (SEAB). This document makes a location and time correction to that notice. The meeting will now be held from 11:45 a.m.-1 p.m. EDT with virtual attendance only.

FOR FURTHER INFORMATION CONTACT: David Borak, Designated Federal Officer; U.S. Department of Energy, 1000 Independence Avenue SW, Washington, DC 20585; Telephone: (202) 586-5216 or Email: seab@hq.doe.gov.

SUPPLEMENTARY INFORMATION:

Corrections

1. In the Federal Register of November 20, 2024, in FR Doc. 2024-27102, on page 89 FR 91722, starting in the second column, correct the DATES caption to read:

DATES: Tuesday, December 10, 2024; 11:45 a.m.-1 p.m.

2. On page 89 FR 91722, starting in the second column, correct the ADDRESSES caption to read:

ADDRESSES: This meeting is open to the public virtually. Registration is required by registering at the SEAB meeting page at: www.energy.gov/seab/seab-meetings.

3. On page 89 FR 91722, starting in the third column, correct the Tentative Agenda to read:

Tentative Agenda: The meeting will start at 11:45 a.m. Eastern Time on December 10, 2024. The tentative meeting agenda includes: roll call, remarks from the SEAB chair, discussion of the SEAB report on artificial intelligence and permitting, and public comment. The meeting will conclude at approximately 1 p.m. Meeting materials can be found here: www.energy.gov/seab/seab-meetings.

Signing Authority: This document of the Department of Energy was signed on November 22, 2024, by Alyssa Petit, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 25, 2024.
Jennifer Hartzell,
Alternate Federal Register Liaison Officer, U.S. Department of Energy.

[FR Doc. 2024-28041 Filed 11-27-24; 8:45 am]

BILLING CODE 6450-01-P